DEPARTMENT OF HEALTH AND HUMAN SERVICES

Centers for Disease Control and Prevention

[Program Announcement 01171]

Expansion of HIV/AIDS Prevention Activities in the Republic of Kenya by Promoting the Establishment of “Free-Standing” or “Stand-Alone” Sites Which Deliver Voluntary Counseling and Testing Services; Notice of Availability of Funds; Amendment

A notice announcing the availability of fiscal year (FY) 2001 funds for a cooperative agreement program for expansion of HIV/AIDS prevention activities in the Republic of Kenya by promoting the establishment of “Free-Standing” or “Stand-Alone” sites which deliver voluntary counseling and testing services, was published in the Federal Register on July 20, 2001, (Vol. 66, No. 140, Pages 37971-37973). The notice is amended as follows:

On page 37972, Second Column, Under Section F. Submission and Deadline, delete: “On or before August 17, 2001, submit the application to the Grants Management Specialist identified in the Where to Obtain Additional Information of this announcement.” and change to “On or before August 31, 2001, submit the application to the Grants Management Specialist identified in the Where to Obtain Additional Information of this announcement.”

Dated: August 16, 2001.
John L. Williams,
Director, Procurement and Grants Office, Center for Disease Control and Prevention (CDC).

[FR Doc. 01-21132 Filed 8-20-01; 8:45 am]

BILLING CODE 4163-18-P